NUCLEAR REGULATORY COMMISSION

Potential Impact of Debris Blockage on Emergency Sump Recirculation at Pressurized-Water Reactors

AGENCY: Nuclear Regulatory Commission.

ACTION: Notice of issuance.

SUMMARY: The Nuclear Regulatory Commission (NRC) has issued Bulletin (BL) 2003-01 to all holders of operating licenses for pressurized-water reactors (PWRs), except those who have permanently ceased operations and have certified that fuel has been permanently removed from the reactor vessel. The bulletin informs PWR licensees of the results of NRC-sponsored research which identified the potential susceptibility of recirculation sump screens to debris blockage in the event of a high-energy line break requiring recirculation operation of the emergency core cooling system (ECCS) or containment spray system (CSS), and of the potential for debris blockage of flowpaths necessary for system recirculation operation and containment drainage. In light of these potentially adverse effects of debris blockage, the bulletin requests that licensees confirm their compliance with section 50.46(b)(5) of Title 10 of the Code of Federal Regulations (10 CFR 50.46(b)(5)) concerning long term ECCS performance, and other existing applicable regulatory requirements, or describe any compensatory measures implemented to reduce the potential risk due to post-accident debris blockage as evaluations to determine compliance proceed.

DATES: The bulletin was issued on June 9, 2003.

ADDRESSES: Not applicable.

FOR FURTHER INFORMATION CONTACT: Ralph Architzel, at 301-415-2804, John Lehning, at 301-415-3285, or John Lamb, at 301-415-1446.

SUPPLEMENTARY INFORMATION: Bulletin 2003-01 may be examined and/or copied for a fee at the NRC's Public Document Room, located at One White Flint North, 11555 Rockville Pike (first floor), Rockville, Maryland, and is accessible electronically from the Agencywide Documents Access and Management Systems (ADAMS) Public Electronic Reading Room on the Internet at the NRC Web site, http://www.nrc.gov/reading-rm/adams.html. The ADAMS Accession No. for the bulletin is ML031600259.

If you do not have access to ADAMS or if there are problems in accessing documents located in ADAMS, contact the NRC Public Document Room (PDR) Reference staff at 301-415-4737 or 1-800-397-4209, or by e-mail to pdr@nrc.gov.

Dated at Rockville, Maryland, this 10th day of June 2003.
For the Nuclear Regulatory Commission.
William D. Beckner,
Program Director, Operating Reactor Improvements Program, Division of Regulatory Improvement Programs, Office of Nuclear Reactor Regulation.

[FR Doc. 03-15121 Filed 6-13-03; 8:45 am]

BILLING CODE 7590-01-P